ENVIRONMENTAL PROTECTION AGENCY

40 CFR Part 300

[FRL-8211-8]

National Oil and Hazardous Substance Pollution Contingency Plan; National Priorities List Update

AGENCY: Environmental Protection Agency.

ACTION: Withdrawal of direct final deletion of the Brio Refining, Inc. Superfund Site from the National Priorities List.

SUMMARY: On June 23, 2006, the United States Environmental Protection Agency (EPA) Region 6, published a direct final deletion (71 FR 36015) to delete the Brio Refining, Inc. Superfund Site (Site), located in Friendswood, Texas, from the National Priorities List (NPL). The EPA is withdrawing this final action due to an adverse comment received during the public comment period. After consideration of the comment received, if appropriate, EPA will publish a notice of deletion in the Federal Register based on the parallel notice of proposed deletion (71 FR 36015) dated June 23, 2006 and place a copy of the final deletion package, including a Responsiveness Summary in the Site repositories.

DATES: The direct final action published on June 23, 2006, at 71 FR 36015, is withdrawn as of August 22, 2006.

ADDRESSES: Comprehensive information on the Site, as well as the comment received during the comment period is available through the public docket contained at: U.S. EPA Region 6 Library, 7th Floor, 1445 Ross Avenue, Suite 1200, Dallas, Texas 75202-2733, (214) 665-6424, Monday through Friday 9 a.m. to 12 p.m. and 1 p.m. to 4 p.m.

FOR FURTHER INFORMATION CONTACT: John C. Meyer, Remedial Project Manager (RPM), U.S. EPA Region 6 (6SF-LP), 1445 Ross Avenue, Dallas, TX 75202-2733, (214) 665-6742 or 1-800-533-3508 (meyer.john@epa.gov).

SUPPLEMENTARY INFORMATION: Comprehensive information about the Site is available for viewing and copying at the Site information repositories located at: U.S. EPA Region 6 Library, 7th Floor, 1445 Ross Avenue, Suite 1200, Dallas, Texas 75202-2733, (214) 665-6424, Monday through Friday 9 a.m. to 12 p.m. and 1 p.m. to 4 p.m.; San Jacinto College, South Campus Library, 13735 Beamer Road, Houston, Texas, 77089, (281) 992-3416, Monday through Thursday 8 a.m. to 9 p.m.; Friday 8 a.m. to 3 p.m.; Saturday 10 a.m. to 1 p.m.; Texas Commission on Environmental Quality (TCEQ), Central File Room Customer Service Center, Building E, 12100 Park 35 Circle, Austin, Texas, 78753, (512) 239-2900, Monday through Friday 8 a.m. to 5 p.m.

List of Subjects in 40 CFR Part 300

Environmental protection, Air pollution control, Chemicals, Hazardous Waste, Hazardous substances, Intergovernmental relations, Penalties, Reporting and record keeping requirements, Superfund, Water Pollution control, and Water supply.

Dated: August 11, 2006.
Richard E. Greene,
Regional Administrator, Region 6.

[FR Doc. E6-13858 Filed 8-21-06; 8:45 am]

BILLING CODE 6560-50-P